COMMISSION ON CIVIL RIGHTS

Sunshine Act Meeting Notice

AGENCY: U.S. Commission on the Social Status of Black Men and Boys (CSSBMB) U.S. Commission on Civil Rights.

ACTION: Notice of CSSBMB FY25 Q4 public business meeting.

DATES: Thursday, December 11, 12:30 p.m. EDT

ADDRESSES: Meeting to take place virtually and is open to the public via livestream on the Commission's YouTube page: www.youtube.com/usccr.

FOR FURTHER INFORMATION CONTACT: Diamond Newman, 202-339-2371, dnewman@usccr.gov.

SUPPLEMENTARY INFORMATION: In accordance with Public Law 116-156, 1134 Stat. 700 (2020), the U.S. Commission on the Social Status of Black Men and Boys (CSSBMB) will hold its FY25 Fourth Quarter Business Meeting exploring CSSBMB business items, operations, and next steps. This business meeting is open to the public via livestream on the U.S. Commission on Civil Rights' YouTube Page at: https://youtube.com/live/9wG-TeEBNIE. (Streaming information subject to change.)

Public participation is available for the event with view access, along with an audio option for listening. Computer-assisted real-time transcription (CART) will be provided. The web link to access CART (in English) on December 11 is https://www.streamtext.net/player?event=CSSBMB. Please note that CART is text-only translation that occurs in real time during the meeting and is not an exact transcript.

* Date and meeting details are subject to change. For more information on the CSSBMB or the upcoming public briefing, please visit www.usccr.gov/CSSBMB and CSSBMB's Instagram, Facebook, and X.

Meeting Agenda

I. Call to Order & Opening Remarks (10 minutes)

Chair Wilson

II. Roll Call & Adoption of Agenda (5 minutes)

USCCR CSSBMB Staff

Chair Wilson

III. Framing the Theme: “Prevention Not Detention” (10 minutes)

Chair Wilson

IV. Director's Report: Annual Report & Operations Update (20 minutes)

Director Spencer

V. Commissioners' Clarifying Questions on Report (10 minutes)

VI. Focused Discussion: Disrupting the School-to-Prison Pipeline (25 minutes)

• Staff Data Overview (20 minutes)

• Targeted Commissioner Discussion (5 minutes)

VII. Open Floor for Commissioners (20 minutes)

• Comments, Initiatives, Brief

VIII. Adjournment

Motion to Adjourn/Vote

Zakee Martin,
Deputy Director.

[FR Doc. 2025-22544 Filed 12-9-25; 11:15 am]

BILLING CODE 6335-01-P